DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of June 16, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: April 22, 2015.
Roy E. Wright,
Deputy Associate Administrator for Mitigation, Department of Homeland Security, Federal Emergency Management Agency.

I. Watershed-based studies:

Community | Community map repository address
Upper Grand Watershed
Ringgold County, Iowa, and Incorporated Areas
Docket No.: FEMA-B-1356
City of Benton | Ringgold County Courthouse, 109 West Madison Street, Mount Ayr, IA 50854.
City of Diagonal | City Hall, 601 West Eight Street, Diagonal, IA 50854.
City of Maloy | City Hall, 204 Carter Street, Maloy, IA 50836.
City of Mount Ayr | City Hall, 200 South Taylor Street, Mount Ayr, IA 50854.
City of Shannon City | City Hall, 302 Union Street, Shannon City, IA 50861.
Unincorporated Areas of Ringgold County | Ringgold County Courthouse, 109 West Madison Street, Mount Ayr, IA 50854.
West Nishnabotna Watershed
Shelby County, Iowa, and Incorporated Areas
Docket No.: FEMA-B-1410
City of Defiance | City Hall, 206 Main Avenue, Defiance, IA 51527.
City of Earling | City Clerk Office, 117 Main Street, Earling, IA 51530.
City of Harlan | City Hall, 711 Durant Street, Harlan, IA 51537.
City of Irwin | City Hall, 504 Ann Street, Irwin, IA 51446.
City of Kirkman | Community Hall, 106 State Street, Kirkman, IA 51447.
City of Panama | City Hall, 111 Main Street, Panama, IA 51562.
City of Portsmouth | City Hall, 2nd Avenue and Main Street, Portsmouth, IA 51565.
Unincorporated Areas of Shelby County | Shelby County Engineer Office, 1411 Industrial Parkway, Harlan, IA 51537.
Upper Grand Watershed
Caldwell County, Missouri, and Incorporated Areas
Docket No.: FEMA-B-1404
City of Braymer | City Hall, 108 East 2nd Street, Braymer, MO 64624.
City of Kingston | City Hall, 30 West Main Street, Kingston, MO 64650.
Unincorporated Areas of Caldwell County | County Courthouse, 49 East Main Street, Kingston, MO 64650.
Gentry County, Missouri, and Incorporated Areas
Docket No.: FEMA-B-1404
City of Albany | City Hall, 106 East Clay Street, Albany, MO 64402.
City of Stanberry | City Hall, 130 West 1st Street, Stanberry, MO 64489.
Unincorporated Areas of Gentry County | County Courthouse, 200 West Clay Street, Albany, MO 64402.
Village of Darlington | Gentry County Courthouse, 200 West Clay Street, Albany, MO 64402.
Village of Gentry | Gentry County Courthouse, 200 West Clay Street, Albany, MO 64402.

II. Non-watershed-based studies:

Community | Community map repository address
Buchanan County, Iowa, and Incorporated Areas
Docket No.: FEMA-B-1404
City of Independence | City Hall, 331 1st Street East, Independence, IA 50644.
Unincorporated Areas of Buchanan County | Buchanan County Zoning Office, 210 5th Avenue Northeast, Suite I, Independence, IA 50644.
Van Buren, Iowa, and Incorporated Areas
Docket No.: FEMA-B-1410
City of Keosauqua | City Hall, 804 1st Street, Keosauqua, IA 52565.
Van Buren County | Van Buren County Courthouse, 406 Dodge Street, Keosauqua, IA 52565.

[FR Doc. 2015-11816 Filed 5-14-15; 8:45 am]

BILLING CODE 9110-12-P